DEPARTMENT OF THE INTERIOR

National Park Service

[NPS-WASO-NAGPRA-NPS0038788; PPWOCRADN0-PCU00RP14.R50000]

Notice of Inventory Completion: California Department of Parks and Recreation, Sacramento, CA, and California Department of Water Resources, Sacramento, CA

AGENCY: National Park Service, Interior.

ACTION: Notice.

SUMMARY: In accordance with the Native American Graves Protection and Repatriation Act (NAGPRA), the California Department of Parks and Recreation and the California Department of Water Resources has completed an inventory of associated funerary objects and has determined that there is a cultural affiliation between associated funerary objects and Indian Tribes or Native Hawaiian organizations in this notice.

DATES: Repatriation of the associated funerary objects in this notice may occur on or after November 4, 2024.

ADDRESSES: Dr. Leslie L. Hartzell, NAGPRA Coordinator, California Department of Parks and Recreation, P.O. Box 942896, Sacramento, CA 94296-0001, telephone (916) 425-8016, email Leslie.Hartzell@parks.ca.gov and Anecita Agustinez, Tribal Policy Advisor, California Department of Water Resources, P.O. Box 942836, Sacramento, CA 94236-0001, telephone (916) 216-8637, email Anecita.Agustinez@water.ca.gov.

SUPPLEMENTARY INFORMATION: This notice is published as part of the National Park Service's administrative responsibilities under NAGPRA. The determinations in this notice are the sole responsibility of the California Department of Parks and Recreation and the California Department of Water Resources, and additional information on the determinations in this notice, including the results of consultation, can be found in the inventory or related records. The National Park Service is not responsible for the determinations in this notice.

Abstract of Information Available

Murphy Site (CA-BUT-53)

In February and April of 1963, student volunteers from American River College California State University—Chico, and Sacramento State University excavated the Murphy Site, under the direction of California Department of Parks and Recreation. These were salvage excavations prior to site destruction, related to researching the cultural chronology of the Lake Oroville vicinity during the construction of the Oroville Dam.

The 302 lots of associated funerary objects are one lot of bolts, one lot of buttons, one lot of cobbles, one lot of drills, one lot of flakers, one lot of gravers, one lot of knife/scrapers, one lot of net sinkers, one lot of quartz crystals, one lot of scraper planes, one lot of seeds, one lot of utilized flakes, two lots of acorns, two lots of antler tines, two lots of anvils, two lots of choppers, two lots of tubes, two lots of unidentified items, three lots of nails, four lots of rocks, six lots of hammerstones, seven lots of ornaments, seven lots of scrapers, eight lots of bowls, eight lots of pestles, nine lots of blades, 11 lots of flakes, 19 lots of pins, 23 lots of awls, 27 lots of bone tools, 30 lots of beads, 40 lots of projectile points, and 76 lots of food remains. No human remains were identified.

Tie-Wiah Site (CA-BUT-84)

In 1964, students and faculty from American River College excavated the Tie-Wiah site. In 1966, the California Department of Parks and Recreation sponsored and oversaw additional excavations. In 1967, the California Department of Water resources sponsored California State University—Sacramento for the site's third excavation prior to the completion of Oroville Dam.

The 11,828 lots of associated funerary objects are one lot of abraders, one lot of atlatl spurs, one lot of baked clay/mud dob, one lot of bolts and nuts, one lot of burins, one lot of chisels, one lot of cord impressions, one lot of crescents, one lot of harpoons, one lot of hooks, one lot of insect nests, one lot of ladles, one lot of mixed bone/rock, one lot of nests, one lot of ochre, one lot of pine cones, one lot of sherds, one lot of washers, one lot of whetstones, two lots of cooking stones, two lots of crystals, two lots of nails, two lots of plant samples, two lots of spoons, three lots of charmstones, three lots of whistles, four lots of bark, four lots of gaming pieces, five lots of ornaments, five lots of spatulas, five lots of wood, six lots of debitage, six lots of gravers, eight lots of rods, nine lots of fire fractured stones, nine lots of gorges, nine lots of griddles, nine lots of net sinkers, 10 lots of ammo, 10 lots of baked clay, 10 lots of glass, 11 lots of wooden posts, 14 lots of shaft straighteners, 14 lots of soil samples, 15 lots of anvils, 17 lots of rocks, 19 lots of pendants, 19 lots of pins, 21 lots of charcoal samples, 22 lots of pipes, 23 lots of acorns, 23 lots of mortars, 23 lots of seeds, 26 lots of incised bones, 31 lots of antler tines, 36 lots of tubes, 40 lots of slag, 41 lots of metates, 44 lots of awls, 70 lots of cobbles, 77 lots of bifaces, 116 lots of pestles, 120 lots of drills, 127 lots of blades, 149 lots of cores, 155 lots of manos, 169 lots of unidentified items, 194 lots of beads, 207 lots of choppers, 222 lots of pigments, 281 lots of hammerstones, 372 lots of bowls, 583 lots of bone tools, 604 lots of knives, 614 lots of utilized flakes, 720 lots of quartz crystals, 1,001 lots of scrapers, 1,228 lots of flakes, 1,646 lots of food remains, and 2,590 lots of projectile points. No human remains were identified.

Chapman Site (CA-BUT-90)

In 1960 and 1961, the California Department of Parks and Recreation oversaw mitigation excavations at the Chapman Site. While geographically affiliated with the Oroville Dam excavations, the Chapman Site is not otherwise affiliated with the construction of the dam.

The 865 lots of associated funerary objects are one lot of antler tines, one lot of balls, one lot of bones, one lot of buttons, one lot of charmstones, one lot of gorge hooks, one lot of grooved stones, one lot of pencils, one lot of sherds, one lot of utilized flakes, one lot of whistles, one lot of wood, two lots of bottles, two lots of mortars, two lots of spatulas, two lots of whetstones, three lots of baked clays, three lots of core/hammerstones, four lots of drills, four lots of knives, four lots of pigments, five lots of cobbles, five lots of pins, five lots of rocks, six lots of cores, six lots of incised bones, six lots of metates, seven lots of choppers, nine lots of blades, nine lots of manos, 11 lots of bone tools, 12 lots of awls, 16 lots of hammerstones, 22 lots of bowls, 26 lots of pestles, 29 lots of scrapers, 35 lots of ornaments, 46 lots of quartz crystals, 77 lots of food remains, 83 lots of flakes, 143 lots of projectile points, and 269 lots of beads. No human remains were identified.

CA-BUT-98

During the 1960s, the California Department of Parks and Recreation excavated an unknown site along the Western Pacific Railroad, possibly as part of the Oroville Dam project.

The 562 lots of associated funerary objects are one lot of abrading stones, one lot of atlatl spurs, one lot of bone tools, one lots of charcoals, one lot of crystals, one lot of mortars, one lot of spatulas, two lots of food remains, two lots of pendants, two lots of rocks, three lots of bowls, three lots of unidentified items, four lots of milling slabs, four lots of sinkers, six lots of choppers, six lots of soil samples, 11 lots of hammerstones, 11 lots of pestles, 13 lots of cobbles, 13 lots of utilized flakes, 19 lots of quartz crystals, 23 lots of manos, 32 lots of cores, 33 lots of blades, 40 lots of knives, 48 lots of scrapers, 74 lots of projectile points, and 206 lots of flakes. No human remains were identified.

CA-BUT-131

In 1961 and 1962, the California Department of Recreation oversaw the Central California Archaeological Foundation's excavations during the Western Pacific Railroad Relocation Project. As part of the Oroville Dam project, the California Department of Water Resources sponsored the excavations. Later in 1962, the California Department of Parks and Recreation oversaw secondary excavations with a California State University—Chico field school.

The 1,051 lots of associated funerary objects are one lot of anvils, one lot of baked clays, one lot of bifaces, one lot of fire fractured rocks, one lot of grooved stones, one lot of modified steatite, one lot of ornaments, one lot of pencils, one lot of rods, one lot of slag, one lot of teeth, one lot of unidentified items, two lots of antlers, two lots of debitage, two lots of mortars, two lots of pendants, two lots of sinkers, two lots of tubes, three lots of gravers, three lots of pipes, three lots of utilized flakes, four lots of cobbles, six lots of spatulas, seven lots of hammerstones, seven lots of pigments, eight lots of bone tools, eight lots of charcoal, eight lots of choppers, nine lots of drills, 10 lots of awls, 12 lots of metates, 12 lots of rocks, 15 lots of pestles, 17 lots of bowls, 18 lots of cores, 20 lots of quartz crystals, 24 lots of manos, 45 lots of blades, 51 lots of scrapers, 52 lots of knives, 80 lots of food remains, 188 lots of projectile points, and 417 lots of flakes.

CA-BUT-157

In 1964, the California Department of Water Resources sponsored the California Department of Parks and Recreation's excavation of an unknown site as part of the Western Pacific Railroad Relocation project.

The 8,090 lots of associated funerary objects are one lot of atlatl weights, one lot of bark, one lot of bolts, one lot of bone daggers, one lot of buckles, one lot of cans, one lot of ceramic, one lot of ear spools, one lot of griddles, one lot of grinding slabs, one lot of leather, one lot of needles, one lots of obsidian hydration samples, one lot of pebbles, one lot of pine bark, one lot of plates, one lot of polished stones, one lot of powder flasks, one lot of rings, one lot of rubbers, one lot of shot pellets, one lot of teeth, one lot of toothbrushes, one lot of twigs, one lot of walls, one lot of whetstones, one lot of wire, two lots of ash, two lots of balls, two lots of bifaces, two lots of botanical material, two lots of chalk, two lots of pinecones, two lots of pine nuts, two lots of pottery, two lots of rifle balls, two lots of rods, two lots of shaft straighteners, two lots of spikes, two lots of whistles, three lots of bones, three lots of ceramic dishes, three lots of clay, three lots of fruit pits, three lots of gorge hooks, three lots of porcelain, four lots of bullets, four lots of mortars, five lots of ornaments, five lots of wood, six lots of net weights, seven lots of fire fractured stones, eight lots of glass, eight lots of sherds, nine lots of acorns, nine lots of graphite, nine lots of incised bones, 10 lots of buttons, 11 lots of anvils, 12 lots of tubes, 13 lots of bottles, 16 lots of drills, 17 lots of antlers, 19 lots of pipes, 21 lots of soil samples, 25 lots of slag, 27 lots of metates, 28 lots of pendants, 31 lots of pins, 34 lots of beads, 40 lots of blades, 41 lots of awls, 41 lots of spatulas, 42 lots of seeds, 45 lots of metals, 54 lots of unidentified items, 62 lots of baked clays, 67 lots of pigments, 72 lots of charcoal samples, 72 lots of rocks, 81 lots of quartz crystals, 107 lots of pestles, 112 lots of choppers, 144 lots of nails, 162 lots of utilized flakes, 173 lots of manos, 181 lots of knives, 200 lots of bowls, 239 lots of hammerstones, 304 lots of cobbles, 306 lots of scrapers, 341 lots of bone tools, 345 lots of cores, 574 lots of projectile points, 1,125 lots of food remains, and 2,751 lots of flakes.

CA-BUT-2216

In 2002, the California Department of Parks and Recreation oversaw site surveys with Sacramento State University and Sonoma State University for a federal relicensing project of the Oroville Dam. CA-BUT-2216 was identified during these surveys.

The 69 lots of associated funerary objects are one lot of cores, one lot of flake tools, one lot of milling slabs, one lot of miscellaneous stones, one lot of shell, two lots of cobble tools, two lots of handstones, two lots of soil samples, seven lots of bifaces, and 51 lots of debitage. Human remains from CA-BUT-53, CA-BUT-84, CA-BUT-90, CA-BUT-98, CA-BUT-131, and CA-BUT-157 were included in 73 FR 20937, April 17, 2008; however, additional collections were identified from the same excavations and subsequent consultations identified the new collections in this Notice as associated funerary objects.

All the sites identified in this notice were dated near the time of excavation by the lead archaeologist; these dates are attributed to sequences linked to Maidu people. The geographical location of these sites is consistent with both the aboriginal lands of historically documented Maidu and KonKow. KonKow people are represented in part today by the KonKow Valley Band of Maidu Indians, a California Tribe identified by the Native American Heritage Commission as culturally and historically affiliated to the geographical location identified in this notice.

Cultural Affiliation

Based on the information available and the results of consultation, cultural affiliation is reasonably identified by the tribal traditional knowledge, geographical location, and acquisition history of the associated funerary objects described in this notice.

Determinations

The California Department of Parks and Recreation and the California Department of Water Resources has determined that:

• The 22,767 lots of objects described in this notice are reasonably believed to have been placed intentionally with or near individual human remains at the time of death or later as part of the death rite or ceremony.

• There is a reasonable connection between the associated funerary objects described in this notice and the Berry Creek Rancheria of Maidu Indians of California; Enterprise Rancheria of Maidu Indians of California; and the Mooretown Rancheria of Maidu Indians of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 4, 2024. If competing requests for repatriation are received, the California Department of Parks and Recreation and the California Department of Water Resources must determine the most appropriate requestor prior to repatriation. Requests for joint repatriation of the human remains and associated funerary objects are considered a single request and not competing requests. The California Department of Parks and Recreation and the California Department of Water Resources are responsible for sending a copy of this notice to the Indian Tribes and Native Hawaiian organizations identified in this notice.

Authority: Native American Graves Protection and Repatriation Act, 25 U.S.C. 3003, and the implementing regulations, 43 CFR 10.10.

Dated: September 25, 2024.
Melanie O'Brien,
Manager, National NAGPRA Program.

[FR Doc. 2024-22888 Filed 10-3-24; 8:45 am]

BILLING CODE 4312-52-P